Proclamation 7419 of March 28, 2001

National Child Abuse Prevention Month, 2001

By the President of the United States of America

A Proclamation

Every child deserves to live in a safe, permanent, and caring family. Regrettably, abuse and neglect continue to threaten the well-being of many young Americans. Each year, more than 800,000 confirmed incidents of maltreatment of children and more than 1,000 abuse-related child fatalities plague our country. We can, and must, do more to fight these tragedies and to protect our children from harm.

Prevention remains the best defense for our children. State Community-Based Family Resource and Support programs sponsor activities promoting public awareness about child abuse and information on how to stop it. Additional initiatives offer education and training to mothers, fathers, and other caretakers. Collaboration among schools, government agencies, faith-based organizations, businesses, community groups, and law enforcement play an important role in helping such efforts to succeed.

During the month of April, let our Nation and her people reaffirm the commitment to making a positive difference in ending child abuse and neglect. Each individual needs to help. Organize or join a community group that offers information or assistance to parents and families. Be vigilant for signs of abuse exhibited by young people in your community. Encourage trust in and support for law enforcement agencies. By speaking out against child abuse and neglect and cultivating an environment that nurtures and strengthens families, we can give boys and girls the safe, stable, and loving homes they need. They will be able to enter the classroom each day ready to learn, with improved self-esteem. They will be encouraged to reach their full potential as individuals and as members of our society.

NOW, THEREFORE, I, GEORGE W. BUSH, President of the United States of America, by virtue of the authority vested in me by the Constitution and laws of the United States, do hereby proclaim April 2001, as National Child Abuse Prevention Month. I encourage all Americans to join in the vital task of protecting young people from harm, and I commend the many dedicated parents, educators, social workers, and other concerned citizens who lead by example in doing right by our children.

IN WITNESS WHEREOF, I have hereunto set my hand this twenty-eighth day of March, in the year of our Lord two thousand one, and of the Independence of the United States of America the two hundred and twenty-fifth.

B

[FR Doc. 01-8010

Filed 3-28-01; 11:40 am]

Billing code 3195-01-P